ENVIRONMENTAL PROTECTION AGENCY

[FRL-9166-9]

Meeting of the National Drinking Water Advisory Council—Notice of Public Meeting

AGENCY: Environmental Protection Agency.

ACTION: Notice.

SUMMARY: Under Section 10(a)(2) of Public Law 92-423, “The Federal Advisory Committee Act,” notice is hereby given of a meeting of the National Drinking Water Advisory Council (NDWAC), established under the Safe Drinking Water Act, as amended (42 U.S.C. 300f et seq.). The Council will consider various issues associated with the Agency's drinking water strategy and new approaches to protecting drinking water and public health. The Council will also receive updates about several on-going activities including the Climate Ready Water Utility Working Group and updates on regulatory efforts.

DATES: The Council meeting will be held on July 21, 2010, from 8:30 p.m. to 5 p.m., July 22, 2010, from 8:30 a.m. to 5 p.m., and July 23, 2010 from 8 a.m. to noon, Eastern Daylight Savings Time.

ADDRESSES: The meeting will be held at the Hotel Palomar Washington, 2121 P Street, NW., Washington, DC 20037.

FOR FURTHER INFORMATION CONTACT: Members of the public who would like to attend the meeting, present an oral statement, or submit a written statement, should contact Thomas Carpenter by e-mail at carpenter.thomas@epa.gov, by phone, 202-564-4885, or by regular mail at the U.S. Environmental Protection Agency, Office of Ground Water and Drinking Water (MC 4601M), 1200 Pennsylvania Avenue, NW., Washington, DC 20460.

SUPPLEMENTARY INFORMATION: The meeting is open to the public. The Council encourages the public's input and will allocate one hour (11:30 a.m.-12:30 p.m.) on July 22, 2010, for this purpose. Oral statements will be limited to five minutes. It is preferred that only one person present the statement on behalf of a group or organization. To ensure adequate time for public involvement, individuals or organizations interested in presenting an oral statement should notify Thomas Carpenter by telephone at 202-564-4885 no later than July 12, 2010. Any person who wishes to file a written statement can do so before or after a Council meeting. Written statements received by July 12, 2010, will be distributed to all members of the Council before any final discussion or vote is completed. Any statements received July 13, 2010, or after the meeting will become part of the permanent meeting file and will be forwarded to the Council members for their information.

Special Accommodations

For information on access or services for individuals with disabilities, please contact Thomas Carpenter at 202-564-4885 or by e-mail at carpenter.thomas@epa.gov. To request accommodation of a disability, please contact Thomas Carpenter, preferably at least 10 days prior to the meeting to give EPA as much time as possible to process your request.

Dated: June 17, 2010.
Cynthia C. Dougherty,
Director, Office of Ground Water and Drinking Water.

[FR Doc. 2010-15218 Filed 6-22-10; 8:45 am]

BILLING CODE 6560-50-P